DEPARTMENT OF COMMERCE

National Oceanic and Atmospheric Administration

Marine Protected Areas Federal Advisory Committee; Public Meeting

AGENCY: National Ocean Service, NOAA, Department of Commerce.

ACTION: Notice of open meeting.

SUMMARY: Notice is hereby given of the second meeting of the Marine Protected Areas Federal Advisory Committee (MPAFAC) in San Mateo, California.

DATES: The meeting will be held Monday, November 17, 2003, from 8:30 a.m. to 5 p.m., Tuesday, November 18, 2003, from 8:30 a.m. to 5 p.m., and Wednesday, November 19, 2003, from 8:30 a.m. to 12 p.m. These times and the agenda topics described below may be subject to change. Refer to the Web page listed below for the most up-to-date meeting agenda.

ADDRESSES: The meeting will be held at the San Mateo Marriott San Francisco Airport Hotel, 1770 South Amphlett Boulevard, San Mateo, California 94402-2708. The hotel is located seven miles south of the San Francisco International Airport and northwest of the intersection of Highways 101 and 92.

FOR FURTHER INFORMATION CONTACT: Marjorie Ernst, Designated Federal Officer, MPAFAC, National Marine Protected Areas Center, NOAA, Rm. 12227, 1305 East-West Highway, Silver Spring, Maryland 20910. (Phone: 301-563-7111; Fax: 301-713-3110; e-mail: marjorie.ernst@noaa.gov; or visit the National MPA Center Web site at http://www.mpa.gov).

SUPPLEMENTARY INFORMATION: The MPAFAC, composed of external, knowledgeable representatives of stakeholder groups, has been established by the Department of Commerce to provide advice to the Secretaries of Commerce and Interior on implementation of section 4 of Executive Order 13158 on MPAs. The meeting will be open to public participation, with a 1.5-hour time period set aside from 9 a.m.-10:30 a.m. on Wednesday, November 19, 2003, for the Committee to receive verbal comments from the public. In general, each individual or group making a verbal presentation will be limited to a total time of five (5) minutes. Copies of written statements should be submitted to the Designated Federal Official by Friday, November 14, 2003.

Matters to be Considered: On Monday, November 17, the Committee will elect and install a Chair and Vice-Chair. This will be followed by a discussion and adoption of procedural rules by which the Committee will operate. The Committee will receive several presentations from NOAA officials both to help place their mission in perspective vis-a-vis the two Departments and to clarify their charge and relationship to the National MPA Center. The Committee will then be briefed by representatives from both Departments on the status of selected Federal Marine Protected Area programs. The Committee will spend the remainder of the day exploring the formation of suitable subcommittees and working groups for addressing facets of its mission.

On Tuesday, November 18, the Chair will oversee the process for the establishment of proposed subcommittees. Once formed, members will break into these smaller groups over the course of the day to discuss their respective goals, tasks, individual assignments, and the nature of the reports and other products that the full committee will deliberate on and issue, based on the input developed by the subcommittees. At several junctures on Tuesday, the subcommittees will report back on progress during plenary sessions. The public is welcomed to observe these breakout sessions, although space may be limited in some cases.

On Wednesday morning, the Committee will reconvene to review and conclude discussions based on the previous day's work before they receive verbal comments or questions from the public. The Committee will conclude the meeting with a discussion of the timing and location of the next meeting, as well as a consideration of potential agenda items.

Dated: October 21, 2003.
Richard W. Spinrad,
Assistant Administrator, Ocean Services and Coastal Zone Management, National Oceanic and Atmospheric Administration.

[FR Doc. 03-27207 Filed 10-28-03; 8:45 am]

BILLING CODE 3510-08-P